FEDERAL MARITIME COMMISSION

Ocean Transportation Intermediary License Applicants

The Commission gives notice that the following applicants have filed an application for an Ocean Transportation Intermediary (OTI) license as a Non-Vessel-Operating Common Carrier (NVO), and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

A.G. Cargo Import, Inc. (NVO & OFF), 3340A Greens Road, Houston, TX 77032. Officers: Justiniano Nunez, President (QI); Fatima Ugueto, Secretary. Application Type: New NVO & OFF License

American Forwarding & Logistics, LLC (NVO & OFF), 1919 NW 19th Street, Unit 624, Ft. Lauderdale, FL 33311. Officers: Gabriele Awada, Manager (QI); Philipp Stachow, Stockholder. Application Type: New NVO & OFF License

Art Van Lines USA, Inc. (NVO), , 501 Penhorn Avenue, Unit 2, Secaucus, NJ 07094. Officers: Kazuhiko Kato, Treasurer (QI); Shozo Murata, President. Application Type: QI Change

Autolink Express Inc (NVO & OFF), 1614 Potrero Avenue, Suite D, South El Monte, CA 91733. Officers: Alex C. Huang, CEO (QI); Wei Zheng, Shareholder. Application Type: New NVO & OFF License

Bay Logistics, Inc. dba Important Cargo Express Co. (NVO), 1677 Atlantic Court, Union City, CA 94587. Officer: Han K. Lim, President (QI). Application Type: Delete Trade Name Important Cargo Express Co.

BL Worldwide Corp. (NVO), 1680 NW 82nd Avenue, Doral, FL 33126. Officer: Maria J. Bembhy, President (QI). Application Type: New NVO License

Browman Freight Services Inc. (NVO), 2800 14th Avenue, Suite 404, Markham, Canada. Officers: Philip Browman, President (QI); Daniel Browman, Vice President. Application Type: New NVO License

Cesar Eddy Quinones dba Jersey Marine Services (NVO), 716 Irving Place, Secaucus, NJ 07094. Officer: Cesar E. Quinones, Sole Proprietor (QI). Application Type: New NVO License

Denizabel Shipping, Inc. (OFF), 19558 NW 50th Court, Miami, FL 33055. Officer: Isabel Ramirez, President (QI). Application Type: New OFF License

Di Global Logistics, Inc. (NVO & OFF), 1730 NW 96 Avenue, Miami, FL 33172. Officers: Johan Arenas, Vice President (QI); Carlos Delgado Arenas, President. Application Type: New NVO & OFF License

DTI Group Inc. (NVO & OFF), 10913 NW 30th Street, Miami, FL 33172. Officer: Sebastian A. Detullio, President (QI). Application Type: Add NVO Service

Excom USA Inc. (NVO & OFF), 10300 W. McNab Road, Tamarac, FL 33321. Officers: Maria J. Oliveira, President (QI); Dercilio Oliveira, Vice President. Application Type: Add NVO Service

F. M. Air Inc. (OFF), 8140 NW 74th Avenue, Unit 6, Medley, FL 33166. Officers: Uilson Nacimento Jr., Vice President (QI); Marcos H. Munhoz, President. Application Type: New OFF License

Freightit, Inc. (NVO), 18701 SW 28th Court, Miramar, FL 33029. Officer: Peter M. Acham, President (QI). Application Type: New NVO

Global Express Forwarding, Inc. (NVO), 5125 N. Oneida Avenue, Norridge, IL 60706. Officer: Michal Gaglewski, President (QI). Application Type: New NVO License

Javelin Logistics Corporation (NVO & OFF), 7447A Morton Avenue, Newark, CA 94560. Officers: Susan M. Foster, Director (QI), Malcolm Winspear, President. Application Type: QI Change

JK International Inc. (NVO & OFF), 1700 S. Third Street, Memphis, TN 38109. Officers: Linda Weddington, Corporate Secretary (QI); James Kim, President. Application Type: QI Change

Maritrans Shipping Ltd. (NVO), 170 E. Sunrise Highway, Valley Stream, NY 11581. Officer: Michael De Filippis, President (QI). Application Type: Name Change to Cargotrans Inc. dba Maritrans Shipping

Miami Warehouse Logistics, Inc. (NVO & OFF), 10800 NW 97th Street, Suite 101, Miami, FL 33178. Officer: Alexis Roldos, President (QI). Application Type: Add OFF Service

Multimodal International Shipping Inc. dba Masterpiece Ocean Freight Limited (NVO & OFF), 615 N. Nash Street, Suite 300, El Segundo, CA 90245. Officers: Andrew Pearlstein, Secretary (QI); David B. Epstein, President. Application Type: QI Change

NMC Logistics Solutions, Inc. (NVO & OFF), 9910 NW 21st Street, Doral, FL 33172. Officers: Orlando Jimenez, President (QI); Natty Moreno, Secretary. Application Type: New NVO & OFF License

OOCL Logistics (USA) Inc. (OFF), 88 Pine Street, 8th Floor, New York, NY 10005. Officers: Richard L. Giovannone, President (QI); Miranda L. Lou, Chairman. Application Type: QI Change

Rapidex USA LLC (NVO & OFF), 71 Veronica Avenue, Suite 2, Somerset, NJ 08873. Officers: Mohamed Y. Ali, Manager (QI); Abdul S. Mohamed, Member. Application Type: Add Trade Name Compass Logistics International LLC

ShemiTrans, LLC (OFF), 1500 Whetstone Way, Suite T100, Baltimore, MD 21230. Officer: Yashar Norhashemi, Managing Member (QI). Application Type: New OFF License

Ship A Pallet, LLC (OFF), 16840 Clay Road, Suite 118, Houston, TX 77084. Officer: Don McSwain, Manager (QI). Application Type: New OFF License

Ship International, Inc. (NVO & OFF), 10551 Hathaway Drive, Santa Fe Springs, CA 90670. Officers: Rigoberto S. Zavaleta, Secretary (QI); Patricia A. Whaley, CEO. Application Type: New NVO & OFF License

Triple Eagle Logistics Inc. dba Triple Eagle Logistic Canada Inc. (NVO & OFF), 17890 Castleton Street, Suite 367, City of Industry, CA 91748. Officers: Yao Wen Mai, Vice President (QI); Hongyi Deng, President. Application Type: New NVO & OFF License

Universal Shipping Lines LLC (NVO & OFF), 1810 Auger Drive, Suite G, Tucker, GA 30084. Officer: Nil A. Aryeetey, Member (QI). Application Type: New NVO & OFF License

Vision Shipping, Inc. (NVO & OFF), 4900 Leesburg Pike, Suite 401, Alexandria, VA 22302. Officers: Husam F. Atari, President (QI); Nasser I. Elzein, Secretary. Application Type: New NVO & OFF License

By the Commission.
Dated: March 1, 2013.
Rachel E. Dickon,
Assistant Secretary.

[FR Doc. 2013-05318 Filed 3-6-13; 8:45 am]

BILLING CODE 6730-01-P